DEPARTMENT OF ENERGY

Federal Energy Regulatory Commission

Combined Notice of Filings

Take notice that the Commission has received the following Natural Gas Pipeline Rate and Refund Report filings:

Filings Instituting Proceedings

Docket Numbers: RP10-1069-000.

Applicants: Kinder Morgan Interstate Gas Transmission.

Description: TIGT 2012 Annual Reconciliation Filing to be effective N/A.

Filed Date: 12/18/12.

Accession Number: 20121218-5064.

Comments Due: 5 p.m. ET 12/31/12.

Docket Numbers: RP13-398-000.

Applicants: Natural Gas Pipeline Company of America.

Description: Removal of Agreements to be effective 1/19/2013.

Filed Date: 12/18/12.

Accession Number: 20121218-5086.

Comments Due: 5 p.m. ET 12/31/12.

Docket Numbers: RP13-399-000.

Applicants: NGO Transmission, Inc.

Description: NGO Transmission—Negotiated Rate Filing to be effective 1/1/2013.

Filed Date: 12/18/12.

Accession Number: 20121218-5092.

Comments Due: 5 p.m. ET 12/31/12.

Docket Numbers: RP13-400-000.

Applicants: TC Offshore LLC.

Description: Negotiated Rate Agreements to be effective 11/1/2012.

Filed Date: 12/18/12.

Accession Number: 20121218-5154.

Comments Due: 5 p.m. ET 12/31/12.

Docket Numbers: RP13-401-000.

Applicants: Gulf South Pipeline Company, LP.

Description: FSS Open Season Option to be effective 1/18/2013.

Filed Date: 12/19/12.

Accession Number: 20121219-5021.

Comments Due: 5 p.m. ET 12/31/12.

Docket Numbers: RP13-402-000.

Applicants: Gulfstream Natural Gas System, L.L.C.

Description: Gulfstream Natural Gas System, L.L.C. submits tariff filing per 154.204: Negotiated Rate Agreement—contract 9120401 to be effective 1/1/2013.

Filed Date: 12/19/12.

Accession Number: 20121219-5033.

Comments Due: 5 p.m. ET 12/31/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-1134-001.

Applicants: Fayetteville Express Pipeline LLC.

Description: FEP 2012 Hub Service—Substitute Sheet Filing to be effective 1/1/2013.

Filed Date: 12/18/12.

Accession Number: 20121218-5155.

Comments Due: 5 p.m. ET 12/31/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 19, 2012.
Nathaniel J. Davis, Sr.,
Deputy Secretary

[FR Doc. 2012-30987 Filed 12-21-12; 4:15 pm]

BILLING CODE 6717-01-P